DEPARTMENT OF ENERGY

Federal Energy Regulatory Commission

Combined Notice of Filings #2

Take notice that the Commission received the following electric rate filings:

Docket Numbers: ER13-539-001.

Applicants: Appalachian Power Company, American Electric Power Service Corporation, PJM Interconnection, L.L.C.

Description: Appalachian Power Co. submits Compliance filing per 1/16/2014 Order in ER13-539 to be effective 7/9/2013.

Filed Date: 2/18/14.

Accession Number: 20140218-5150.

Comments Due: 5 p.m. ET 3/11/14.

Docket Numbers: ER14-1330-000.

Applicants: Duke Energy Progress, Inc.

Description: OATT NCEMC Power Supply Agreement RS No. 182 to be effective 4/19/2014.

Filed Date: 2/18/14.

Accession Number: 20140218-5065.

Comments Due: 5 p.m. ET 3/11/14.

Docket Numbers: ER14-1331-000.

Applicants: Southern California Edison Company.

Description: Unexecuted SGIA and Distribution Service Agreement with SEPV Mission Creek, LLC to be effective 4/20/2014.

Filed Date: 2/18/14.

Accession Number: 20140218-5147.

Comments Due: 5 p.m. ET 3/11/14.

Docket Numbers: ER14-1332-000.

Applicants: DATC Path 15, LLC.

Description: Revised Appendix I in TO Tariff Updating TRR to be effective 4/20/2014.

Filed Date: 2/18/14.

Accession Number: 20140218-5199.

Comments Due: 5 p.m. ET 3/11/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 18, 2014.
Nathaniel J. Davis, Sr.,
Deputy Secretary.

[FR Doc. 2014-04048 Filed 2-25-14; 8:45 am]

BILLING CODE 6717-01-P